Title 3—

The President

Proclamation 8756 of November 18, 2011

National Family Week, 2011

By the President of the United States of America

A Proclamation

For generations, American families have empowered our sons and daughters with boundless love, giving them the courage to pursue their dreams. This week, we celebrate the threads of compassion and unity that tie our families together, enrich our communities, and strengthen the fabric of our Nation.

My Administration remains steadfast in our commitment to families across America. To ensure our children get a strong start, we are bolstering early learning programs and promoting education reform that will do more to bring every student the best our schools have to offer. By investing in Pell Grants and community colleges, we are working to make higher education affordable for more families and build a workforce of tomorrow that will excel in the global economy. And by taking executive action to lighten financial burdens on many middle class families, we are making it more affordable to pay back student loans and easier for homeowners to refinance their mortgages. As our families work hard to meet their obligations, these actions will give them the help they need to thrive in the years to come.

During National Family Week, let us also reflect on the contributions and sacrifices of our service members and their loved ones. Our troops and military families serve with valor at home and overseas, and as a Nation we have a moral obligation to serve these patriots as well as they have served us. To better fulfill this promise, First Lady Michelle Obama and Dr. Jill Biden launched Joining Forces earlier this year, an initiative that challenges all Americans to make a difference in the lives of our veterans and military families.

As we gather with our loved ones this holiday season, let us pause to give thanks to all those who share in the trials and triumphs of our lives. Our families illuminate our days and bring meaning to our years, and their love has the power to see us through our greatest challenges. This week and throughout the year, let us strive to give back to our friends, families, communities, and neighbors, and to work together in pursuit of our highest ambitions.

NOW, THEREFORE, I, BARACK OBAMA, President of the United States of America, by virtue of the authority vested in me by the Constitution and the laws of the United States, do hereby proclaim November 20 through November 26, 2011, as National Family Week. I invite all States, communities, and individuals to join in observing this week with appropriate ceremonies and activities to honor our Nation’s families.

IN WITNESS WHEREOF, I have hereunto set my hand this eighteenth day of November, in the year of our Lord two thousand eleven, and of the Independence of the United States of America the two hundred and thirty-sixth.

[FR Doc. 2011-30454

Filed 11-22-11; 11:15 am]

Billing code 3295-F2-P